DEPARTMENT OF COMMERCE

National Oceanic and Atmospheric Administration

Proposed Information Collection; Comment Request; Virginia Modified Pound Net Leader Inspection Program

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 18, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Carrie Upite, (978) 282-8475 or carrie.upite@noaa.gov/.

SUPPLEMENTARY INFORMATION:

I. Abstract

This request is for extension of an inspection program for modified pound net leaders in the Virginia waters of the mainstem Chesapeake Bay. Pound net fishermen must call the National Marine Fisheries Service (NMFS) to arrange for a meeting. At the meeting, they must allow for the inspection of gear to ensure the modified leader meets the definition of a modified pound net leader, as described in the regulations (§ 222.102). This inspection program is necessary to provide fishermen with the insurance that their leaders meet the regulatory definition of a modified pound net leader before setting their gear, provide managers with the knowledge that the offshore leaders in a portion of the Virginia Chesapeake Bay are configured in a sea turtle-safe manner, and aid in enforcement efforts. This collection of information will end when Final Rule 0648-BB37 becomes effective and will be replaced by training (consult the April 17, 2014 proposed rule (79 FR 21695) for details on the inspection program cessation).

II. Method of Collection

Reports may be made by telephone and in-person meetings.

III. Data

OMB Control Number: 0648-0559.

Form Number: None.

Type of Review: Regular submission (extension of a current information collection).

Affected Public: Individuals or households.

Estimated Number of Respondents: 19.

Estimated Time per Response: Arrangement of inspection meeting and reporting of lost or stolen tags, 5 minutes each; inspection meeting, 1 hour.

Estimated Total Annual Burden Hours: 70 hours.

Estimated Total Annual Cost to Public: $103 (recordkeeping/reporting).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 14, 2014.
Gwellnar Banks,
Management Analyst, Office of the Chief Information Officer.

[FR Doc. 2014-11448 Filed 5-16-14; 8:45 am]

BILLING CODE 3510-22-P